DEPARTMENT OF COMMERCE

National Oceanic and Atmospheric Administration

[I.D. 111003B]

South Atlantic Fishery Management Council (Council); Public Meeting

AGENCY: National Marine Fisheries Service (NMFS), National Oceanic and Atmospheric Administration (NOAA), Commerce.

ACTION: Notice of the Southeastern Data, Assessment, and Review (SEDAR) Workshops for Atlantic and Gulf King Mackerel.

SUMMARY: The SEDAR assessment of the South Atlantic and Gulf King mackerel will consist of a series of three workshops, a Data Review Workshop, an Assessment Workshop, and a Review Workshop.

DATES: The Data Workshop will take place December 1-5, 2003; the Assessment Workshop will take place February 16-20, 2004; and the Review Workshop will take place April 5-9, 2004. See SUPPLEMENTARY INFORMATION for specific dates and times.

ADDRESSES: The three workshops will be held at NOAA Fisheries' Southeast Fisheries Science Center, 75 Virginia Beach Drive, Miami, FL 33149, phone: (305) 361-4200.

FOR FURTHER INFORMATION CONTACT: Kim Iverson, Public Information Officer, South Atlantic Fishery Management Council, One Southpark Circle, Suite 306, Charleston, SC 29407-4699; phone: (843) 571-4366 or toll free: (866) SAFMC-10; fax: (843) 769-4520.

SUPPLEMENTARY INFORMATION: The workshops will take place: December 1-5, 2003; February 16-20; 2004; and April 5-9, 2004.

The South Atlantic Fishery Management Council, in conjunction with NOAA Fisheries, has implemented the SEDAR process, a multi-step method for determining the status of fish stocks. SEDAR includes three workshops: (1) Data Workshop, (2) Stock Assessment Workshop, and (3) Review Workshop. The product of the Data Workshop and the Stock Assessment Workshop is a stock assessment report. This report is then peer reviewed at the Review Workshop, and a final consensus report and an advisory report are prepared that includes strengths and weaknesses in the stock assessment and recommendations to fishery managers for future data and research needs. The process includes data collectors, biologists, fishermen, environmental representatives, database managers, stock assessment scientists, and Council members and staff.

Atlantic and Gulf King Mackerel SEDAR Workshop Schedule

December 1-5, 2003—SEDAR Data Workshop

December 1, 2003, 2 p.m.-6 p.m.; December 2-4, 2003, 8:30 a.m.-5 p.m.; and December 5, 2003, 8:30 a.m.-3 p.m.

An assessment data set will be developed during the Data Workshop for Atlantic and Gulf King mackerel. The assessment data set will include catch statistics, fishery sampling, independent monitoring, life history, and logbook information.

February 16-20, 2004—SEDAR Assessment Workshop

February 16, 2004, 2 p.m.-6 p.m.; February 17-19, 2004, 8:30 a.m.-5:30 p.m.; and February 20, 2004, 8:30 a.m.- 12 noon

Using the data set resulting from the Data Workshop, participants will develop population models, evaluate the status of the stock, and create a report for review.

April 5-8, 2004—SEDAR Review Workshop

April 5, 2004, 2 p.m.-5 p.m. and April 6-8, 2004, 8:30 a.m.-5 p.m.

The Review Workshop involves a peer review of the report created from the earlier two workshops. Two reports will be produced: (1) a consensus report and (2) an advisory report.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to the Council office (see ADDRESSES) at least 5 business days prior to each workshop.

Dated: November 12, 2003.
Richard W. Surdi,
Acting Director, Office of Sustainable Fisheries, National Marine Fisheries Service.

[FR Doc. E3-00249 Filed 11-14-03; 8:45 am]

BILLING CODE 6717-01-P